DEPARTMENT OF THE TREASURY

Office of the Comptroller of the Currency

Agency Information Collection Activities: Proposed Information Collection; Comment Request

Correction

In notice document E9-7496 beginning on page 15322 in the issue of Friday, April 3, 2009, make the following correction:

On page 15322, in the second column, in the DATES section, in the second line, “May 4, 2009” should read “June 2, 2009”.

[FR Doc. Z9-7496 Filed 4-14-09; 8:45 am]

BILLING CODE 1505-01-D